DEPARTMENT OF COMMERCE

International Trade Administration

[C-570-921]

Lightweight Thermal Paper From the People's Republic of China: Final Results of the Expedited First Sunset Review of the Countervailing Duty Order

AGENCY: Enforcement and Compliance, formerly Import Administration, International Trade Administration, Department of Commerce.

DATES: Effective Date: February 25, 2014.

SUMMARY: The Department of Commerce (Department) finds that revocation of the countervailing duty (CVD) order on lightweight thermal paper (thermal paper) from the People's Republic of China (the PRC) would be likely to lead to continuation or recurrence of countervailable subsidies.

FOR FURTHER INFORMATION CONTACT: Joshua Morris or Nancy Decker, AD/CVD Operations, Office I, Enforcement and Compliance, International Trade Administration, U.S. Department of Commerce, 14th Street and Constitution Avenue NW., Washington, DC 20230; telephone (202) 482-1779 or (202) 482-0196, respectively.

SUPPLEMENTARY INFORMATION:

Background

On October 1, 2013, the Department initiated the first sunset review of the CVD Order ¹ on thermal paper from the PRC pursuant to section 751(c) of the Tariff Act of 1930, as amended (the Act).²

¹ See Lightweight Thermal Paper from the People's Republic of China: Notice of Amended Final Affirmative Countervailing Duty Determination and Notice of Countervailing Duty Order, 73 FR 70958 (November 24, 2008) (CVD Order).

² See Initiation of Five-Year (“Sunset”) Review, 78 FR 60253 (October 1, 2013).

On October 28, 2013, the Department received a notice of intent to participate from the petitioner in the investigation, Appvion, Inc.³ (hereinafter, Petitioner), within the deadline specified in 19 CFR 351.218(d)(1)(i).⁴ On November 18, 2013, the Department received an adequate substantive response from Petitioner within the 30-day deadline specified in 19 CFR 351.218(d)(3).⁵

³ Appvion, Inc. was formerly known as Appleton Papers Inc.

⁴ The deadline for domestic interested party notification of intent to participate would have been October 16, 2013 (15 days after the date of publication of the initiation notice). However, as explained in the memorandum from the Assistant Secretary for Enforcement and Compliance, the Department exercised its discretion to toll deadlines for the duration of the closure of the Federal Government from October 1, through October 16, 2013. See Memorandum for the Record from Paul Piquado, Assistant Secretary for Enforcement and Compliance, “Deadlines Affected by the Shutdown of the Federal Government” (October 18, 2013) (Tolling Memorandum). Therefore, the revised deadline for notification of intent to participate was November 1, 2013.

⁵ The deadline substantive responses would have been October 31, 2013. However, due to the tolling of deadlines resulting from the closure of the Federal Government, the revised deadline for substantive responses was November 16, 2013. See Tolling Memorandum. Because that day fell on a Saturday, the new deadline was November 18, 2013. See Notice of Clarification: Application of “Next Business Day” Rule for Administrative Determination Deadlines Pursuant to the Tariff Act of 1930, As Amended, 70 FR 24533 (May 10, 2005).

The Department did not receive any submissions from other interested parties. As a result, pursuant to 19 CFR 351.218(e)(1)(ii)(B)-(C), the Department is conducting an expedited (120-day) sunset review of the CVD Order.

Scope of the Order

This order covers certain lightweight thermal paper. A full description of the scope of the order is contained in the Issues and Decision Memorandum,⁶ which is hereby adopted by this notice.

⁶ See “Issues and Decision Memorandum for the Final Results of the Expedited Sunset Review of the Countervailing Duty Order on Lightweight Thermal Paper from the People's Republic of China” from Christian Marsh, Deputy Assistant Secretary for Antidumping and Countervailing Duty Operations, to Paul Piquado, Assistant Secretary for Enforcement and Compliance, dated concurrently with this notice (Issues and Decision Memorandum).

The Issues and Decision Memorandum is a public document and is on file electronically via Enforcement and Compliance's Antidumping and Countervailing Duty Centralized Electronic Service System (IA ACCESS). IA ACCESS is available to registered users at http://iaaccess.trade.gov and in the Central Records Unit, room 7046 of the main Department of Commerce building. In addition, a complete version of the Issues and Decision Memorandum can be accessed directly on the Internet at http://www.trade.gov/enforcement/. The signed Issues and Decision Memorandum and the electronic versions of the Issues and Decision Memorandum are identical in content.

Analysis of Comments Received

All issues raised in this review are addressed in the Issues and Decision Memorandum. The issues include the likelihood of continuation or recurrence of a countervailable subsidy and the net countervailable subsidy likely to prevail if the order were revoked.

Final Results of Review

Pursuant to sections 752(b)(1) and (3) of the Act, we determine that revocation of the CVD Order would be likely to lead to continuation or recurrence of countervailable subsidies at the following net countervailable subsidy rates:

Manufacturers/Producers/Exporters | Net subsidy rate (percent)
Guangdong Guanhao High-Tech Co., Ltd | 13.63
Shenzhen Yuanming Industrial Development Co., Ltd | 138.53
MDCN Technology Co., Ltd | 124.93
Xiamen Anne Paper Co., Ltd | 124.93
All Others | 13.63

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results and notice in accordance with sections 751(c), 752(b), and 777(i)(1) of the Act.

Dated: February 14, 2014.
Paul Piquado,
Assistant Secretary for Enforcement and Compliance.

Appendix

List of Topics Discussed in the Issues and Decision Memorandum

1. Summary

2. History of the Order

3. Background

4. Scope of the Order

5. Discussion of the Issues

a. Likelihood of Continuation or Recurrence of a Countervailable Subsidy

b. Net Countervailable Subsidy Likely To Prevail

6. Nature of the Subsidies

7. Final Results of Review

8. Recommendation

[FR Doc. 2014-04068 Filed 2-24-14; 8:45 am]

BILLING CODE 3510-DS-P